DEPARTMENT OF COMMERCE

National Oceanic and Atmospheric Administration

[I.D. 103103A]

Marine Mammals; File Nos. 704-1698 and 1044-1706

AGENCY: National Marine Fisheries Service (NMFS), National Oceanic and Atmospheric Administration (NOAA), Commerce.

ACTION: Issuance of permits.

SUMMARY: Notice is hereby given that the following applicants have been issued permits to take marine mammals parts from species of marine mammals under NMFS jurisdiction for purposes of scientific research: (1) The University of Alaska Museum, 907 Yukon Drive, P.O. Box 756960, Fairbanks, AK 99775 (Dr. Gordon Jarrell, Principal Investigator (PI)); and (2) The Alaska Sea Otter and Steller Sea Lion Commission (TASSC), 6239 B Street, Suite 204, Anchorage, AK 99518 (Dr. Dolly Garza, PI).

ADDRESSES: The permits and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Ruth Johnson or Amy Sloan, (301)713-2289.

SUPPLEMENTARY INFORMATION: On September 8, 2003, notice was published in the Federal Register (68 FR 52905) that requests for scientific research permits to take marine mammal parts had been submitted by the above-named organizations. The requested permits have been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

File No. 704-1698: The University of Alaska Museum is authorized to take, import and export specimen samples (whole carcasses; hard and soft parts) from all marine mammal species (pinnipeds and cetaceans) under NMFS jurisdiction. The objective of this permit is to archive specimens for future bona fide research at the University of Alaska and other institutions in the U.S. and world-wide.

File No. 1044-1706: TASSC is authorized to take, import and export parts and tissues from marine mammals taken from legally subsistence hunted Steller sea lions and other species. The objectives of this research are to promote Alaska Native participation in Steller sea lion conservation and management; assess the health and condition of Steller sea lions through biological data and tissue collection; educate and inform the public on the traditional and contemporary relationship between the Steller sea lion and Alaska Natives; and work with regulatory agencies toward the common goal of enhancing and protecting healthy Steller sea lion populations.

Issuance of these permits, as required by the ESA, was based on a finding that such permits (1) were applied for in good faith, (2) will not operate to the disadvantage of the endangered species which is the subject of these permits, and (3) are consistent with the purposes and policies set forth in section 2 of the ESA.

Dated: December 12, 2003.
Stephen L. Leathery,
Chief, Permits, Conservation and Education Division, Office of Protected Resources, National Marine Fisheries Service.

[FR Doc. 03-31228 Filed 12-17-03; 8:45 am]

BILLING CODE 3510-22-S